DEPARTMENT OF THE INTERIOR

National Park Service

Northeast Region; Notice of Intent To Prepare an Environmental Impact Statement and Hold Public Meetings

In accordance with the National Environmental Policy Act of 1969 (Pub. L. 91-109 Section 102(c)), the National Park Service is preparing an Environmental Impact Statement (EIS) for the resource study of the Washington-Rochambeau Revolutionary Route, as authorized by Pub. L. 106-473. The historic route stretched from Newport, Rhode Island to Yorktown, Virginia, passing through Connecticut, New York, New Jersey, Pennsylvania, Delaware, Maryland, and what is now Washington D.C. A segment of the return route extended from Providence, Rhode Island to Boston, Massachusetts. The purpose of the EIS/study is to determine if the route is eligible to become a National Historic Trail. If the National Park Service determines that the route is nationally and historically significant, retains integrity and has potential for public recreation, Congress could designate the route a National Historic Trail. The study will identify alternative management options to preserve and interpret the route. The alternatives will describe the: Proposed route; current land ownership and use; areas adjacent to the trails to be used for developmental purposes; estimated cost of acquisition of lands or interest in lands, if any; cost of developing and maintaining the trail; the proposed Federal administering agency; participation of State and local governments and private and public organizations; anticipated levels of public use; economic and social benefits of public use; and the potential impacts of recreational use to trail resources.

The NPS will hold three public scoping meetings beginning in March 2002, that will provide opportunities for all interested parties to express concerns, make suggestions and raise issues concerning the future direction and development of the Washington-Rochambeau Revolutionary Route study. The first public meeting will be held in Hartford, Connecticut on Thursday March 14, from 1:30-3:30 p.m. in the Stanley Room of the South Congregational Church, 277 South Main Street. The second meeting will be held in Yorktown, Virginia on Saturday, March 16, from 1:30-3:30 p.m. in Theater 2 of the Yorktown Visitor Center, Colonial National Historical Park, located at the intersection of Route 238 and Colonial Parkway. A third meeting is being scheduled in Trenton, New Jersey. Additional information about the meetings and the EIS/study will be available on the National Park Service website, www.nps.gov/revwar/.

Those persons who wish to comment orally or in writing, or who require further information, are invited to contact Brian_Aviles, Project Manager, at the National Park Service Boston Support Office, 15 State Street, Boston, Massachusetts 02109-3572, (617) 223-5319, -5164 fax, or via email at Brian_Aviles@nps.gov.

The Draft EIS/study report is expected to be completed and available for public review in mid 2004. After public and interagency review of the draft document, comments will be considered and a final EIS/study report, followed by a Record of Decision, will be prepared.

Dated: January 29, 2002.
Lawrence Gall,
Acting Superintendent, Boston Support Office.

[FR Doc. 02-5234 Filed 3-4-02; 8:45 am]

BILLING CODE 4310-70-P